DEPARTMENT OF COMMERCE

National Oceanic and Atmospheric Administration

RIN 0648- XD224

Marine Mammals; File No. 18537

AGENCY: National Marine Fisheries Service (NMFS), National Oceanic and Atmospheric Administration (NOAA), Commerce.

ACTION: Notice; issuance of permit.

SUMMARY: Notice is hereby given that a permit has been issued to the Alaska Department of Fish and Game (ADF&G), Division of Wildlife Conservation, Juneau, AK, (Principal Investigator: Michael Rehberg), to conduct research on Steller sea lions (Eumetopias jubatus), within incidental disturbance of several pinniped species.

ADDRESSES: The permit and related documents are available for review upon written request or by appointment in the Permits and Conservation Division, Office of Protected Resources, NMFS, 1315 East-West Highway, Room 13705, Silver Spring, MD 20910; phone (301)427-8401; fax (301)713-0376.

FOR FURTHER INFORMATION CONTACT: Courtney Smith or Amy Sloan, (301)427-8401.

SUPPLEMENTARY INFORMATION: On April 9, 2014 notice was published in the Federal Register (79 FR 19578) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 18537 supports continuation of ADF&G's long-term Steller sea lion (SSL) research program. It authorizes takes during research activities that incorporate improved methodology based on previous work authorized under permit No. 14325 and subsequent modifications, including: Incidental disturbance during aerial, skiff- and ground-based count and brand resight surveys; captures supporting marking, external instrument attachment, and physiology, toxicology, feeding ecology and health sampling; and permanent marking of pups and older age classes for describing vital rates and intra-/inter-Discrete Population Segment (DPS) movement. The permit authorizes takes by incidental disturbance of northern fur seals (Callorhinus ursinus), California sea lions (Zalophus californianus), and harbor (Phoca vitulina), spotted (Phoca largha), ribbon (Histriophoca fasciata), ringed (Pusa hispida) and bearded seals (Erignathus barbatus) due to the proximity of isolated individuals to the study area. See tables in permit for numbers of takes by species, stock and activity. Annual unintentional mortality of 5 SSL from the Western DPS and 10 SSL from the Eastern DPS is authorized. The permit is valid through August 31, 2019.

In compliance with the National Environmental Policy Act of 1969 (42 U.S.C. 4321 et seq.), NMFS has determined that the activities proposed are consistent with the Preferred Alternative in the Final Programmatic Environmental Impact Statement for Steller Sea Lion and Northern Fur Seal Research (NMFS 2007), and that issuance of the permit would not have a significant adverse impact on the human environment. An additional environmental assessment (EA) analyzing the effects of sUAS, which were not considered in the initial PEIS, on the human environment was prepared in compliance with the National Environmental Policy Act of 1969 (42 U.S.C. 4321 et seq.). Based on the analyses in the EA for Issuance of Permits to take Steller Sea Lions by Harassment During Surveys Using Unmanned Aerial Systems, NMFS determined that issuance of the permit would not significantly impact the quality of the human environment and that preparation of an environmental impact statement was not required. That determination is documented in a Finding of No Significant Impact (FONSI), signed on June 17, 2014.

As required by the ESA, issuance of this permit was based on a finding that such permit: (1) Was applied for in good faith; (2) will not operate to the disadvantage of such endangered species; and (3) is consistent with the purposes and policies set forth in section 2 of the ESA.

Dated: August 25, 2014.
Julia Harrison,
Chief, Permits and Conservation Division, Office of Protected Resources, National Marine Fisheries Service.

[FR Doc. 2014-20490 Filed 8-27-14; 8:45 am]

BILLING CODE 3510-22-P